DEPARTMENT OF DEFENSE

Office of the Secretary

Submission for OMB Review; Comment Request

ACTION: Notice.

The Department of Defense has submitted to OMB for clearance, the following proposal for collection of information under the provisions of the Paperwork Reduction Act (44 U.S.C. Chapter 35).

Title Form, and OMB Number: Registration for Scientific and Technical Information Services; DD Form 1540; OMB Number 0704-0264.

Type of Request: Extension.

Number of Respondents: 2,000.

Responses per Respondent: 1.

Annual Responses: 2,000.

Average Burden per Response: 25 minutes.

Annual Burden Hours: 833.

Needs and Uses: The Department of Defense Scientific and Technical Information Program (STIP) requires the exchange of scientific and technical information within and among Federal Government agencies and their contractors. The DD Form 1540 serves as a registration tool for Federal Government agencies and their contractors to access Defense Technical Information Center (DTIC) services. The contractors, subcontractors, and potential contractors are requires to obtain certification from designated approving officials. Federal Government agencies need certification from approving officials and security offices only when requesting access to classified data. All collected information is verified by DTIC's Marketing and Registration Division.

Affected Public: Business or Other For-Profit; Not-For-Profit Institutions; State, Local or Tribal Government.

Frequency: On Occasion.

Respondent's Obligation: Required to Obtain or Retain Benefits.

OMB Desk Officer: Mr. Edward C. Springer.

Written comments and recommendations on the proposed information collection should be sent to Mr. Springer at the Office of Management and Budget, Desk Officer for DoD, Room 10236, New Executive Office Building, Washington, DC 20503.

DoD Clearance Office: Mr. Robert Cushing.

Written requests for copies of the information collection proposal should be sent to Mr. Cushing, WHS/DIOR, 1215 Jefferson Davis Highway, Suite 1204, Arlington, VA 22202-4302.

Dated: April 19, 2001.
Patricia L. Toppings,
Alternate OSD Federal Register Liaision Officer, Department of Defense.

[FR Doc. 01-10310 Filed 4-25-01; 8:45 am]

BILLING CODE 5001-10-M